DEPARTMENT OF TRANSPORTATION

Saint Lawrence Seaway Development Corporation

Saint Lawrence Seaway Development Corporation Advisory Board—Notice of Public Meetings

AGENCY: Saint Lawrence Seaway Development Corporation (SLSDC), USDOT.

ACTION: Notice of public meetings.

SUMMARY: This notice announces the public meetings via conference call of the Saint Lawrence Seaway Development Corporation Advisory Board.

DATES: The public meetings will be held on (all times Eastern):

• Thursday, June 25, 2020 From 2:00 p.m.-3:30 p.m. EST

○ Requests to attend the meeting must be received by June 10, 2020.

○ Requests for accommodations to a disability must be received by June 10, 2020

○ If you wish to speak during the meeting, you must submit a written copy of your remarks to SLSDC by June 10, 2020.

○ Requests to submit written materials to be reviewed during the meeting must be received no later than June 10, 2020.

• Thursday, September 24, 2020 From 2:00 p.m.-3:30 p.m. EST

○ Requests to attend the meeting must be received by September 10, 2020.

○ Requests for accommodations to a disability must be received by September 10, 2020.

○ If you wish to speak during the meeting, you must submit a written copy of your remarks to SLSDC by September 10, 2020.

○ Requests to submit written materials to be reviewed during the meeting must be received no later than September 10, 2020.

ADDRESSES: The meetings will be held via conference call at the SLSDC's Operations location, 180 Andrews Street, Massena, New York 13662.

FOR FURTHER INFORMATION CONTACT: Wayne Williams, Chief of Staff, Saint Lawrence Seaway Development Corporation, 1200 New Jersey Avenue SE, Washington, DC 20590; 202-366-0091. There will be three (3) minutes allotted for oral comments from members of the public joining the meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the SLSDC conduct a lottery to determine the speakers. Speakers are requested to submit a written copy of their prepared remarks for inclusion in the meeting records and for circulation to SLSDC Advisory Board members. All prepared remarks submitted will be accepted and considered as part of the meeting's record. Any member of the public may submit a written statement after the meeting deadline, and it will be presented to the committee.

SUPPLEMENTARY INFORMATION: Pursuant to Section 10(a)(2) of the Federal Advisory Committee Act (Pub. L. 92-463; 5 U.S.C. App. 2), notice is hereby given of meetings of the Advisory Board of the Saint Lawrence Seaway Development Corporation (SLSDC). The agenda for each meeting is the same and will be as follows:

Thursday, June 25, 2020 From 2:00 p.m.-3:30 p.m. EST

Thursday, September 24, 2020 From 2:00 p.m.-3:30 p.m. EST

1. Opening Remarks

2. Consideration of Minutes of Past Meeting

3. Quarterly Report

4. Old and New Business

5. Closing Discussion

6. Adjournment

Public Participation

Attendance at the meeting is open to the interested public. With the approval of the Administrator, members of the public may present oral statements at the meeting. Persons wishing further information should contact the person listed under the heading, FOR FURTHER INFORMATION CONTACT. The US Department of Transportation is committed to providing equal access to this meeting for all participants. If you need alternative formats or services because of a disability, such as sign language, interpretation, or other ancillary aids, please contact the person listed in the FOR FURTHER INFORMATION CONTACT section. Any member of the public may present a written statement to the Advisory Board at any time.

Issued at Washington, DC, on May 29, 2020.
Carrie Lavigne,
(Approving Official), Chief Counsel, Saint Lawrence Seaway Development Corporation.

[FR Doc. 2020-11959 Filed 6-2-20; 8:45 am]

BILLING CODE 4910-61-P